DEPARTMENT OF DEFENSE

Office of the Secretary

Defense Business Board (DBB); Notice of Federal Advisory Committee Meeting

AGENCY: DoD.

ACTION: Meeting notice.

SUMMARY: Under the provisions of the Federal Advisory Committee Act of 1972 (5 U.S.C., Appendix, as amended), the Government in the Sunshine Act of 1976 (5 U.S.C. 552b, as amended), and 41 CFR 102-3.150, the Department of Defense announces the following Federal advisory committee meeting of the Defense Business Board (DBB).

DATES: The public meeting of the Defense Business Board (hereafter referred to as “the Board”) will be held on Thursday, January 19, 2012. The meeting will begin at 8 a.m. and end at 9 a.m. (Escort required; See guidance in SUPPLEMENTARY INFORMATION, “Public's Accessibility to the Meeting.”)

ADDRESSES: Room 3E863 in the Pentagon, Washington, DC (escort required; See guidance in SUPPLEMENTARY INFORMATION, “Public's Accessibility to the Meeting.”).

FOR FURTHER INFORMATION CONTACT: The Board's Designated Federal Officer (DFO) is Phyllis Ferguson, Defense Business Board, 1155 Defense Pentagon, Room 5B1088A, Washington, DC 20301-1155, Phyllis.ferguson@osd.mil, (703) 695-7563. For meeting information please contact Ms. Debora Duffy, Defense Business Board, 1155 Defense Pentagon, Room 5B1088A, Washington, DC 20301-1155, Debora.Duffy@osd.mil, (703) 697-2168.

SUPPLEMENTARY INFORMATION:

Purpose of the Meeting: At this meeting, the Board will deliberate draft findings and recommendations from the “Information Technology Modernization” Task Group. The Board will also receive updates from the Task Groups on “Re-engineering the Requirements Process,” “Leveraging Public-Private Collaboration to Augment the Department of Defense's Mission,” and “Promoting Veterans' Employment through Concurrent Credentialing.” The mission of the Board is to advise the Secretary of Defense on effective strategies for implementation of best business practices of interest to the Department of Defense.

Agenda

Public Session

8 a.m.-8:45 a.m. Task Group Outbrief and Board Deliberation: Information Technology Modernization.

8:45 a.m.-9 a.m. Task Group Updates: Re-engineering the Requirements Process, Leveraging Public-Private Collaboration to Augment the Department of Defense's Mission, Promoting Veterans' Employment through Concurrent Credentialing.

End of Public Session

Availability of Materials for the Meeting: A copy of the agenda for the January 19, 2012 meeting and the terms of reference for the Task Groups may be obtained at the meeting or from the Board's Web site at http://dbb.defense.gov/meetings.shtml.

Public's Accessibility to the Meeting: Pursuant to 5 U.S.C. 552b and 41 CFR 102-3.140 through 102-3.165, and the availability of space, part of this meeting is open to the public. Seating is limited and is on a first-come basis. All members of the public who wish to attend the public session of the meeting must contact Ms. Debora Duffy at the number listed in this notice no later than noon on Wednesday, January 11 to register and make arrangements for a Pentagon escort, if necessary. Public attendees requiring escort should arrive at the Pentagon Metro Entrance in time to complete security screening no later than 7:30 a.m. To complete security screening, please come prepared to present two forms of identification and one must be a pictured identification card.

Special Accommodations: Individuals requiring special accommodations to access the public meeting should contact Ms. Duffy at least five (5) business days prior to the meeting so that appropriate arrangements can be made.

Procedures for Providing Public Comments

Pursuant to 41 CFR 102-3.105(j) and 102-3.140, and section 10(a)(3) of the Federal Advisory Committee Act of 1972, the public or interested organizations may submit written comments to the Board about its mission and topics pertaining to this public session.

Written comments should be received by the DFO at least five (5) business days prior to the meeting date so that the comments may be made available to the Board for their consideration prior to the meeting. Written comments should be submitted via email to the address for the DFO given in this notice in either Adobe Acrobat or Microsoft Word format. Please note that since the Board operates under the provisions of the Federal Advisory Committee Act, as amended, all submitted comments and public presentations will be treated as public documents and will be made available for public inspection, including, but not limited to, being posted on the Board's Web site.

Dated: December 21, 2011.
Aaron Siegel,
Alternate OSD Federal Register Liaison Officer, Department of Defense.

[FR Doc. 2011-33202 Filed 12-27-11; 8:45 am]

BILLING CODE 5001-06-P